DEPARTMENT OF STATE

[Public Notice 7422]

Notice of Availability of the Supplemental Draft Environmental Impact Statement for the Proposed TransCanada Keystone XL Pipeline Project

AGENCY: Department of State.

ACTION: Notice of availability.

SUMMARY: Consistent with the National Environmental Policy Act (NEPA) of 1969, as amended, the Department of State (DOS) has prepared a supplemental draft environmental impact statement (SDEIS) for the proposed TransCanada Keystone Pipeline, LP (TransCanada) Keystone XL Project (Project). On September 19, 2008, TransCanada filed an application for a Presidential Permit for the construction, connection, operation, and maintenance of a pipeline and associated facilities at the border of the U.S. and Canada for the transport of crude oil across the U.S.-Canada international boundary. The Secretary of State is designated and empowered to receive all applications for Presidential Permits, as referred to in Executive Order 13337, as amended, for the construction, connection, operation, or maintenance, at the borders of the United States, of facilities for the exportation or importation of petroleum, petroleum products, coal, or other fuels to or from a foreign country. TransCanada has requested authorization to construct and operate border crossing facilities at the U.S.-Canadian border in Phillips County, near Morgan, Montana, in connection with its proposed international pipeline project (Keystone XL Project) that is designed to transport Canadian crude oil production from the Western Canadian Sedimentary Basin (WCSB) to destinations in the south central United States, including to a new tank farm in Cushing, Oklahoma, and to delivery points in the Port Arthur and East Houston areas of Texas.

SUPPLEMENTARY INFORMATION: DOS served as the lead Federal agency for the environmental review of the proposed Project consistent with NEPA, and issued a draft environmental impact statement (draft EIS) for public review on April 16, 2010. The Federal and state agencies that served as cooperating agencies in the development of the draft EIS include the U.S. Department of Agriculture—Natural Resources Conservation Service, Farm Service Agency, and Rural Utilities Service; the U.S. Army Corps of Engineers; the U.S. Department of Energy, Western Area Power Administration; the U.S. Department of the Interior—Bureau of Land Management, National Park Service, and U.S. Fish and Wildlife Service; the U.S. Department of Transportation, Pipeline and Hazardous Materials Safety Administration, Office of Pipeline Safety; the U.S. Environmental Protection Agency; and the Montana Department of Environmental Quality. Cooperating agencies either have jurisdiction by law or special expertise with respect to the environmental impacts assessed in connection with the proposal and are participating with DOS in analysis of those environmental impacts.

The public comment period for the draft EIS officially closed on July 2, 2010. DOS accepted written comments and verbal comments presented at over 20 public comment meetings held along the proposed pipeline route in Montana, South Dakota, Nebraska, Oklahoma, and Texas, as well as in Washington, DC. As a result, over 8,000 separate comments were received and reviewed. In an adequacy assessment of the draft EIS, DOS determined that no new issues of substance emerged from the comments received. However, after the draft EIS was issued, additional and updated information became available related to the proposed Project and its potential impacts on the environment. Although the adequacy determination for the draft EIS indicated that it would not be mandatory to issue a supplemental document to comply with NEPA, DOS decided that decision-makers and the public would benefit from additional public review of, and comment on, both the information that was not available at the time the draft EIS was issued and the portions of the EIS that were revised to address the new information and comments on the draft EIS.

The SDEIS includes revised information on the proposed Project facilities, including design, construction, and maintenance; additional regulatory requirements; and additional potential connected actions. The SDEIS includes additional information on existing groundwater conditions and potential impacts to groundwater that could result from an accidental discharge from the proposed Project, expanded information on the potential impacts of an accidental discharge from the proposed Project, additional alternatives to the proposed Project, and expanded environmental justice considerations. The SDEIS also includes additional information on the composition of crude oils that would be transported by the proposed Project in comparison to other heavy crude oils, potential refinery emissions, and greenhouse gas (GHG) and climate change considerations. Appendices to the SDEIS include copies of new reports and other documents relevant to the proposed Project, petroleum market impacts, lifecycle GHG emissions, and additional requirements for pipeline construction, operation, maintenance, and inspection.

Copies of the SDEIS have been mailed to interested Federal, state and local agencies; public interest groups; individuals and affected landowners who requested a copy of the SDEIS; libraries; newspapers; and other stakeholders. A list of public libraries to which copies of the SDEIS have been mailed is available online at http://www.keystonepipeline-xl.state.gov. If you would like to request that a copy be sent to a public library not already on this list or to an organization involved with the Project, please e-mail YuanAW@state.gov. Copies will be mailed while supplies last.

Comment Procedures: Any person wishing to comment on the SDEIS may do so. DOS requests that comments be limited to the subject matter addressed in this SDEIS. DOS will only respond to comments that directly address information provided in the SDEIS. DOS will consider only those comments received by the end of the comment period during preparation of the final EIS. To ensure consideration prior to issuance of the final EIS (a prerequisite to a DOS decision on the proposal), it is important that DOS receive your comments no later than June 6, 2011 (45 days after publication of this notice). Comments on the SDEIS can be submitted to DOS using any of the following methods:

• DOS Keystone XL Project Web site: http://www.keystonepipeline-xl.state.gov.

• E-mail to: keystonexl@cardno.com.

• Mail to: Keystone XL EIS Project, P.O. Box 96503-98500, Washington, DC 20090-6503.

• Fax: 206-269-0098.

Comments received will be included in the Administrative Record without change and may, at the sole discretion of DOS, be made available on-line at http://www.keystonepipeline-xl.state.gov, including any personal information provided, unless the commenter indicates that the comment includes information claimed to be confidential business information (CBI) or other information whose disclosure is restricted by statute. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

DOS will publish and distribute a final EIS that will contain responses to timely and relevant comments received on the SDEIS, as well as to the comments on the draft EIS that were previously submitted to DOS. The final EIS will also include text revised in response to comments on the draft EIS and the SDEIS. From the date of issuance of the final EIS, the public will have 30 days to comment and cooperating agencies will have 90 days to comment before DOS makes a determination under Executive Order 13337 on whether issuance of this permit is in the U.S. national interest. DOS will host a public meeting in Washington, DC following issuance of the final EIS.

Further Information: Additional information on the proposed Keystone XL Project is available for viewing and download at the DOS Keystone XL Project related Web site: http://www.keystonepipeline-xl.state.gov. Information on the Web site includes the Keystone application for a Presidential Permit, including associated maps and drawings; the draft EIS and the SDEIS; a 2010 report prepared by EnSys Energy and Systems, Inc. (EnSys) that was contracted by the U.S. Department of Energy, Office of Policy & International Affairs to evaluate different North American crude oil transport scenarios through 2030 to assist DOS in better understanding the potential impacts of the presence or absence of the proposed Project on U.S. refining and petroleum imports and also on international markets; a list of libraries where the draft EIS and SDEIS may be viewed; and other Project information.

Additional information on the proposed Keystone XL Project in Montana is available at: http://svc.mt.gov/deq/wmaKeystoneXL/.

Dated: April 15, 2011.
Willem H. Brakel,
Director, Office of Environmental Policy, Bureau of Oceans and International, Environmental and Scientific Affairs.

[FR Doc. 2011-9858 Filed 4-21-11; 8:45 am]

BILLING CODE 4710-07-P